DEPARTMENT OF AGRICULTURE

Forest Service

Central Idaho Resource Advisory Committee Meeting; Salmon-Challis National Forest, Butte, Custer, and Lemhi Counties, ID

AGENCY: Forest Service, USDA.

ACTION: Notice of meeting of the Resource Advisory Committee.

SUMMARY: The Central Idaho Resource Advisory Committee will meet at 2 p.m., April 11, 2002 at the Custer County Courthouse, Challis, Idaho. The 15-member committee will be evaluating proposed projects and recommending projects to the Salmon—Challis National Forest. The committee will also discuss individual project proposals for 2002. The meeting is open to the public and time will be scheduled for public comments.

The Central Idaho Resource Advisory Committee was established by the Secretary of Agriculture under Title II of the Secure Rural Schools and Community Self-Determination Act of 2000 to work collaboratively with the Salmon-Challis National Forest to provide advice and recommendations consistent with the purposes of the Act.

George P. Matejko,
Forest Supervisor, Salmon—Challis National Forest, Designated Federal Official.

[FR Doc. 02-8178 Filed 4-3-02; 8:45 am]

BILLING CODE 3410-11-M